DEPARTMENT OF COMMERCE

International Trade Administration

[A-570-967]

Aluminum Extrusions From the People's Republic of China: Final Results of Antidumping Duty Administrative Review; 2015-2016

AGENCY: Enforcement and Compliance, International Trade Administration, Department of Commerce.

SUMMARY: The Department of Commerce (the Department) is conducting an administrative review of the antidumping duty order on aluminum extrusions from the People's Republic of China (PRC). The period of review (POR) is May 1, 2015, through April 30, 2016. These final results cover 10 companies and the PRC-wide entity for which an administrative review was initiated.

DATES: Applicable: November 13, 2017.

FOR FURTHER INFORMATION CONTACT: Deborah Scott or Mark Flessner, AD/CVD Operations, Office VI, Enforcement and Compliance, International Trade Administration, Department of Commerce, 1401 Constitution Avenue NW., Washington, DC 20230; telephone: (202) 482-2657 or (202) 482-6312, respectively.

SUPPLEMENTARY INFORMATION:

Background

The Department initiated this review on July 7, 2016.¹ On June 6, 2017, the Department published the Preliminary Results of this administrative review.² At that time, we invited interested parties to comment on the Preliminary Results. On July 6, 2017, we received a case brief from the Aluminum Extrusions Fair Trade Committee (the petitioner).³ No other parties submitted case or rebuttal briefs. These final results cover 10 companies and the PRC-wide entity for which an administrative review was initiated and not rescinded.⁴

¹ See Initiation of Antidumping and Countervailing Duty Administrative Reviews, 81 FR 44260 (July 7, 2016) (Initiation Notice).

² See Aluminum Extrusions from the People's Republic of China: Preliminary Results of Antidumping Duty Administrative Review and Rescission of Review in Part; 2015-2016, 82 FR 26055 (June 6, 2017) (Preliminary Results), and accompanying preliminary decision memorandum (Preliminary Decision Memorandum).

³ See Petitioner Letter re: Aluminum Extrusions from the People's Republic of China: Case Brief, dated July 6, 2017.

⁴ This administrative review initially covered 191 companies and the PRC-wide entity. See Initiation Notice, 81 FR at 44262. However, the Department rescinded this review with respect to 181 companies for which all administrative review requests were timely withdrawn. See Preliminary Results, 82 FR at 26056.

Scope of the Order

The merchandise covered by the Order ⁵ is aluminum extrusions which are shapes and forms, produced by an extrusion process, made from aluminum alloys having metallic elements corresponding to the alloy series designations published by The Aluminum Association commencing with the numbers 1, 3, and 6 (or proprietary equivalents or other certifying body equivalents).⁶

⁵ See Aluminum Extrusions from the People's Republic of China: Antidumping Duty Order, 76 FR 30650 (May 26, 2011) (Order).

⁶ For a complete description of the scope of the Order, see Memorandum, “Issues and Decisions Memorandum for the Final Results of the Antidumping Duty Administrative Review: Aluminum Extrusions from the People's Republic of China; 2015-2016,” dated concurrently with, and hereby adopted by, this notice (Issues and Decision Memorandum).

Imports of the subject merchandise are provided for under the following categories of the Harmonized Tariff Schedule of the United States (HTSUS): 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.

Analysis of Comments Received

All issues raised in the case briefs filed by parties in this review are addressed in the Issues and Decision Memorandum, which is incorporated herein by reference. A list of the issues which any party raised, and to which we respond in the Issues and Decision Memorandum, follows in the appendix to this notice. The Issues and Decision Memorandum is a public document and is on file electronically via Enforcement and Compliance's Antidumping and Countervailing Duty Centralized Electronic Service System (ACCESS). ACCESS is available to registered users at https://access.trade.gov and is available to all parties in the Central Records Unit, Room B8024 of the main Department of Commerce building. In addition, a complete version of the Issues and Decision Memorandum can be accessed directly on the Internet at http://enforcement.trade.gov/frn/index.html. The signed Issues and Decision Memorandum and the electronic version of the Issues and Decision Memorandum are identical in content.

Changes Since the Preliminary Results

For the purposes of these final results, the Department made no changes to the Preliminary Results.

PRC-Wide Entity

For the purposes of the final results of this administrative review, the Department finds that the following entities are part of the PRC-wide entity because they failed to submit both a Q&V response and information to establish eligibility for a separate rate: (1) Kam Kiu; (2) Atlas Integrated Manufacturing Ltd.; (3) Classic & Contemporary Inc.; (4) Dongguan Golden Tiger Hardware Industrial Co., Ltd.; (5) Jiaxing Jackson Travel Products Co., Ltd.; (6) Taishan City Kam Kiu Aluminium Extrusion Co., Ltd.; (7) Shenyang Yuanda Aluminium Industry Engineering Co. Ltd.; (8) Sincere Profit Limited; and (9) Suzhou New Hongji Precision Part Co.

The Department's change in policy regarding conditional review of the PRC-wide entity applies to this administrative review.⁷ Under this policy, the PRC-wide entity will not be under review unless a party specifically requests, or the Department self-initiates, a review of the entity. The petitioner ⁸ requested a review of the PRC-wide entity in the instant review; therefore, the PRC-wide entity is currently under review and the rate for the PRC-wide entity is subject to change.

⁷ See Antidumping Proceedings: Announcement of Change in Department Practice for Respondent Selection in Antidumping Duty Proceedings and Conditional Review of the Nonmarket Economy Entity in NME Antidumping Duty Proceedings, 78 FR 65963, 65970 (November 4, 2013).

⁸ The petitioner is the Aluminum Extrusions Fair Trade Committee.

Adjustments for Countervailable Subsidies

Because no mandatory respondent established eligibility for an adjustment under section 777A(f) of the Act for countervailable domestic subsidies, the Department, for these final results, did not make an adjustment pursuant to section 777A(f) of the Act for countervailable domestic subsidies for the separate-rate recipients.⁹

⁹ See Preliminary Decision Memorandum, at 17-18.

Pursuant to section 772(c)(1)(C) of the Act, we made an adjustment for countervailable export subsidies for tenKsolar. We calculated this adjustment as the simple average of the countervailable export subsidies determined for the mandatory respondents in the 2014 (i.e., most recently completed) CVD administrative review ¹⁰ and deducted this amount from the weighted-average dumping margin assigned to tenKsolar.¹¹ The adjusted rate for tenKsolar is 85.96 percent.

¹⁰ Aluminum Extrusions from the People's Republic of China: Final Results and Partial Rescission of Countervailing Duty Administrative Review; 2014, 81 FR 92778 (December 20, 2016).

¹¹ See Preliminary Decision Memorandum, at 12 and 17-18.

Pursuant to section 772(c)(1)(C) of the Act, we also made an adjustment for countervailable export subsidies for the PRC-wide entity. We adjusted the PRC-wide entity cash deposit rate by the lowest countervailable export subsidy determined for the mandatory respondents in the 2014 (i.e., most recently completed) CVD administrative review.¹²

¹² Id., at 17-18.

Final Results of Review

The Department determines that the following weighted-average dumping margins exist for the 2015-2016 POR:

Exporter | Weighted-average dumping margin (percent) | Margin adjusted for liquidation and cash deposit purposes (percent)
tenKsolar (Shanghai) Co., Ltd | 86.01 | 85.96
PRC-wide Entity | 86.01 | 85.96

Additionally, as explained above, the Department determines that the following companies are part of the PRC-wide entity: (1) Kam Kiu; (2) Atlas Integrated Manufacturing Ltd.; (3) Classic & Contemporary Inc.; (4) Dongguan Golden Tiger Hardware Industrial Co., Ltd.; (5) Jiaxing Jackson Travel Products Co., Ltd.; (6) Taishan City Kam Kiu Aluminium Extrusion Co., Ltd.; (7) Shenyang Yuanda Aluminium Industry Engineering Co. Ltd.; (8) Sincere Profit Limited; and (9) Suzhou New Hongji Precision Part Co.

Assessment

Pursuant to section 751(a)(2)(A) of the Act and 19 CFR 351.212(b), the Department will determine, and CBP shall assess, antidumping duties on all appropriate entries of subject merchandise in accordance with the final results of this review. The Department intends to issue assessment instructions to CBP 15 days after the date of publication of the final results of review in the Federal Register. Consistent with the Department's assessment practice in NME cases, if the Department determines that an exporter under review had no shipments of subject merchandise, any suspended entries that entered under the exporter's case number (i.e., at that exporter's rate) will be liquidated at the PRC-wide rate.¹³ For the companies eligible for a separate rate, the Department will instruct CBP to assess antidumping duties on the company's entries of subject merchandise at the rates listed above in the section “Final Results of Review.”

¹³ See Non-Market Economy Antidumping Proceedings: Assessment of Antidumping Duties, 76 FR 65694 (October 24, 2011).

Cash Deposit Requirements

The following cash deposit requirements will be effective upon publication of the final results of this administrative review for all shipments of the subject merchandise from the PRC entered, or withdrawn from warehouse, for consumption on or after the publication date, as provided for by section 751(a)(2)(C) of the Act: (1) For the companies eligible for a separate rate, the cash deposit rate will that listed above in the section “Final Results of Review;” (2) for previously investigated or reviewed PRC and non-PRC exporters not listed above that received a separate rate in a prior segment of this proceeding, the cash deposit rate will continue to be the exporter-specific rate published for the most-recently completed segment of this proceeding in which the exporter was reviewed; (3) for all PRC exporters of subject merchandise which have not been found to be entitled to a separate rate, the cash deposit rate will be that established for the PRC-wide entity, which is 85.96 percent; and (4) for all non-PRC exporters of subject merchandise which have not received their own rate, the cash deposit rate will be the rate applicable to the PRC exporter that supplied that non-PRC exporter with the subject merchandise. These deposit requirements, when imposed, shall remain in effect until further notice.

Notification to Importers

This notice serves as a final reminder to importers of their responsibility under 19 CFR 351.402(f)(2) to file a certificate regarding the reimbursement of antidumping duties and/or countervailing duties prior to liquidation of the relevant entries during this POR. Failure to comply with this requirement could result in the Department's presumption that reimbursement of antidumping duties and/or countervailing duties occurred and the subsequent assessment of doubled antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h).

Dated: November 3, 2017.
Gary Taverman,
Deputy Assistant Secretary for Antidumping and Countervailing Duty Operations, performing the non-exclusive functions and duties of the Assistant Secretary for Enforcement and Compliance.

Appendix—List of Topics Discussed in the Issues and Decision Memorandum

1. Summary

2. Background

3. Scope of the Order

4. Discussion of the Issues

Comment: The Margin Assigned to the PRC-Wide Entity

5. Recommendation

[FR Doc. 2017-24407 Filed 11-9-17; 8:45 am]

BILLING CODE 3510-DS-P